DEPARTMENT OF HOMELAND SECURITY

Notice Regarding the Uyghur Forced Labor Prevention Act Entity List

AGENCY: Department of Homeland Security.

ACTION: Notice.

SUMMARY: The U.S. Department of Homeland Security (DHS), as the Chair of the Forced Labor Enforcement Task Force (FLETF), announces the publication and availability of the updated Uyghur Forced Labor Prevention Act (UFLPA) Entity List, a consolidated register of the four lists required to be developed and maintained pursuant to the UFLPA, on the DHS UFLPA website. The updated UFLPA Entity List is also published as an appendix to this notice. This update adds five entities to the section 2(d)(2)(B)(ii) list of the UFLPA and twenty-five entities to the section 2(d)(2)(B)(v) list of the UFLPA. Further, this update includes a technical correction to remove an alias for one entity already on the UFLPA Entity List. Details related to the process for revising the UFLPA Entity List are included in this Federal Register notice.

DATES: This notice announces the publication and availability of the UFLPA Entity List updated as of November 25, 2024, included as an appendix to this notice.

ADDRESSES: Persons seeking additional information on the UFLPA Entity List should email the FLETF at FLETF.UFLPA.EntityList@hq.dhs.gov.

FOR FURTHER INFORMATION CONTACT: LeRoy Potts, Director, Entity List Office, Trade and Economic Security, Office of Strategy, Policy, and Plans, DHS. Phone: (202) 891-2331, email: FLETF.UFLPA.EntityList@hq.dhs.gov.

SUPPLEMENTARY INFORMATION: The U.S. Department of Homeland Security (DHS), on behalf of the Forced Labor Enforcement Task Force (FLETF), is announcing the publication of the updated UFLPA Entity List, a consolidated register of the four lists required to be developed and maintained pursuant to section 2(d)(2)(B) of the Uyghur Forced Labor Prevention Act (Pub. L. 117-78) (UFLPA), to https://www.dhs.gov/uflpa-entity-list. The UFLPA Entity List is available as an appendix to this notice. This update adds five entities to the 2(d)(2)(B)(ii) list of the UFLPA, which identifies entities working with the government of the Xinjiang Uyghur Autonomous Region to recruit, transport, transfer, harbor or receive forced labor or Uyghurs, Kazakhs, Kyrgyz, or members of other persecuted groups out of the Xinjiang Uyghur Autonomous Region. This update also adds twenty-five entities to the section 2(d)(2)(B)(v) list of the UFLPA, which identifies facilities and entities that source material from the Xinjiang Uyghur Autonomous Region or from persons working with the government of Xinjiang or the Xinjiang Production and Construction Corps for purposes of the “poverty alleviation” program or the “pairing-assistance” program or any other government labor scheme that uses forced labor. This update also modifies the name for a listing for one entity on the section 2(d)(2)(B)(i) list of the UFLPA to remove an alias. Future revisions to the UFLPA Entity List, which may include additions, removals or technical corrections, will be published to https://www.dhs.gov/uflpa-entitylist and in the appendices of future Federal Register notices. See appendix 1.

Beginning on June 21, 2022, the UFLPA requires the Commissioner of U.S. Customs and Border Protection to apply a rebuttable presumption that goods mined, produced, or manufactured by entities on the UFLPA Entity List are made with forced labor, and therefore, prohibited from importation into the United States under 19 U.S.C. 1307. See section 3(a) of the UFLPA. As the FLETF revises the UFLPA Entity List, including by making additions, removals, or technical corrections, DHS, on its behalf, will post such revisions to the DHS UFLPA website (https://www.dhs.gov/uflpa-entity-list) and also publish the revised UFLPA Entity List as an appendix to a Federal Register notice.

Background

A. The Forced Labor Enforcement Task Force

Section 741 of the United States-Mexico-Canada Agreement Implementation Act established the FLETF to monitor United States enforcement of the prohibition under section 307 of the Tariff Act of 1930, as amended (19 U.S.C. 1307). See 19 U.S.C. 4681. Pursuant to DHS Delegation Order No. 23034, the DHS Under Secretary for Strategy, Policy, and Plans serves as Chair of the FLETF, an interagency task force that includes the Department of Homeland Security, the Office of the U.S. Trade Representative, and the Departments of Labor, State, Justice, the Treasury, and Commerce (member agencies).¹ See 19 U.S.C. 4681; Executive Order 13923 (May 15, 2020). In addition, the FLETF includes six observer agencies: the Departments of Energy and Agriculture, the U.S. Agency for International Development, the National Security Council, U.S. Customs and Border Protection, and U.S. Immigration and Customs Enforcement Homeland Security Investigations.

¹ The U.S. Department of Homeland Security, as the FLETF Chair, has the authority to invite representatives from other executive departments and agencies, as appropriate. See Executive Order 13923 (May 15, 2020). The U.S. Department of Commerce is a member of the FLETF as invited by the Chair.

B. The Uyghur Forced Labor Prevention Act: Preventing Goods Made With Forced Labor in the People's Republic of China From Being Imported Into the United States

The UFLPA requires, among other things, that the FLETF, in consultation with the Secretary of Commerce and the Director of National Intelligence, develop a strategy (UFLPA section 2(c)) for supporting enforcement of section 307 of the Tariff Act of 1930, to prevent the importation into the United States of goods, wares, articles, and merchandise mined, produced, or manufactured wholly or in part with forced labor in the People's Republic of China. As required by the UFLPA, the Strategy to Prevent the Importation of Goods Mined, Produced, or Manufactured with Forced Labor in the People's Republic of China, which was published on the DHS website on June 17, 2022 (see https://www.dhs.gov/uflpa-strategy), includes the initial UFLPA Entity List, a consolidated register of the four lists required to be developed and maintained pursuant to the UFLPA. See UFLPA Section 2(d)(2)(B).

C. UFLPA Entity List

The UFLPA Entity List addresses distinct requirements set forth in clauses (i), (ii), (iv), and (v) of section 2(d)(2)(B) of the UFLPA that the FLETF identify and publish the following four lists:

(1) a list of entities in the Xinjiang Uyghur Autonomous Region that mine, produce, or manufacture wholly or in part any goods, wares, articles, and merchandise with forced labor;

(2) a list of entities working with the government of the Xinjiang Uyghur Autonomous Region to recruit, transport, transfer, harbor or receive forced labor or Uyghurs, Kazakhs, Kyrgyz, or members of other persecuted groups out of the Xinjiang Uyghur Autonomous Region;

(3) a list of entities that exported products made by entities in lists 1 and 2 from the People's Republic of China into the United States; and

(4) a list of facilities and entities, including the Xinjiang Production and Construction Corps, that source material from the Xinjiang Uyghur Autonomous Region or from persons working with the government of Xinjiang or the Xinjiang Production and Construction Corps for purposes of the “poverty alleviation” program or the “pairing-assistance” program or any other government-labor scheme that uses forced labor.

The UFLPA Entity List is a consolidated register of the above four lists. In accordance with section 3(e) of the UFLPA, effective June 21, 2022, entities on the UFLPA Entity List (listed entities) are subject to the UFLPA's rebuttable presumption that products they produce, wholly or in part, are prohibited from entry into the United States under 19 U.S.C. 1307. The UFLPA Entity List is described in appendix 1 to this notice. The UFLPA Entity List should not be interpreted as an exhaustive list of entities engaged in the practices described in clauses (i), (ii), (iv), or (v) of section 2(d)(2)(B) of the UFLPA.

Revisions to the UFLPA Entity List, including all additions, removals, and technical corrections, will be published on the DHS UFLPA website (https://www.dhs.gov/uflpa-entity-list) and as an appendix to a notice that will be published in the Federal Register. See appendix 1. The FLETF will consider future additions to, or removals from, the UFLPA Entity List based on criteria described in clauses (i), (ii), (iv), or (v) of section 2(d)(2)(B) of the UFLPA. Any FLETF member agency may submit a recommendation(s) to add, remove or make technical corrections to an entry on the UFLPA Entity List. FLETF member agencies will review and vote on revisions to the UFLPA Entity List accordingly.

Additions to the Entity List

The FLETF will consider future additions to the UFLPA Entity List based on the criteria described in clauses (i), (ii), (iv), or (v) of section 2(d)(2)(B) of the UFLPA. Any FLETF member agency may submit a recommendation to the FLETF Chair to add an entity to the UFLPA Entity List. Following review of the recommendation by the FLETF member agencies, the decision to add an entity to the UFLPA Entity List will be made by majority vote of the FLETF member agencies.

Requests for Removal From the Entity List

Any listed entity may submit a request for removal (removal request) from the UFLPA Entity List along with supporting information to the FLETF Chair at FLETF.UFLPA.EntityList@hq.dhs.gov. In the removal request, the entity (or its designated representative) should provide information that demonstrates that the entity no longer meets or does not meet the criteria described in the applicable clause ((i), (ii), (iv), or (v)) of section 2(d)(2)(B) of the UFLPA. The FLETF Chair will refer all such removal requests and supporting information to FLETF member agencies. Upon receipt of the removal request, the FLETF Chair or the Chair's designated representative may contact the entity on behalf of the FLETF regarding questions on the removal request and may request additional information. Following review of the removal request by the FLETF member agencies, the decision to remove an entity from the UFLPA Entity List will be made by majority vote of the FLETF member agencies.

Listed entities may request a meeting with the FLETF after submitting a removal request in writing to the FLETF Chair at FLETF.UFLPA.EntityList@hq.dhs.gov. Following its review of a removal request, the FLETF may accept the meeting request at the conclusion of the review period and, if accepted, will hold the meeting prior to voting on the entity's removal request. The FLETF Chair will advise the entity in writing of the FLETF's decision on its removal request. While the FLETF's decision on a removal request is not appealable, the FLETF will consider new removal requests if accompanied by new information.

Robert Silvers,
Under Secretary, Office of Strategy, Policy, and Plans, U.S. Department of Homeland Security.

Appendix 1

This notice supersedes the UFLPA Entity List published in the Federal Register on November 1, 2024 (89 FR 87391). The UFLPA Entity List as of November 25, 2024 is available in this appendix and is published on https://www.dhs.gov/uflpa-entity-list. This update adds five entities to the section 2(d)(2)(B)(ii) list of the UFLPA, which identifies entities working with the government of the Xinjiang Uyghur Autonomous Region to recruit, transport, transfer, harbor or receive forced labor or Uyghurs, Kazakhs, Kyrgyz, or members of other persecuted groups out of the Xinjiang Uyghur Autonomous Region:

• Western Gold Co., Ltd.

• Western Gold Hami Gold Mine Co., Ltd.

• Western Gold Karamay Hatu Gold Mine Co., Ltd.

• Xinjiang Nonferrous Metals Industry Group Co., Ltd.

• Xinjiang Zhonghe Co., Ltd. (also known as Xinjiang Joinworld Co., Ltd.)

This update also adds twenty-five entities to the section 2(d)(2)(B)(v) list of the UFLPA, which identifies facilities and entities that source material from the Xinjiang Uyghur Autonomous Region or from persons working with the government of Xinjiang or the Xinjiang Production and Construction Corps for purposes of the “poverty alleviation” program or the “pairing-assistance” program or any other government labor scheme that uses forced labor:

• Anhui Yaozhiyuan Biotechnology Development Co., Ltd. (also known as Anhui Yaozhiyuan Chinese Herbal Medicine Co., Ltd.; Anhui Yaozhiyuan Chinese Medicinal Materials Co., Ltd.; and Anhui Yaozhiyuan Biological Technology Development Co., Ltd.)

• Annan Canned Food Co., Ltd. (also known as Nanling County Annan Canned Food Co., Ltd.)

• Dalian Sunspeed Foods Co., Ltd. (also known as Dalian Shengchi International Trade Co., Ltd.)

• Gansu Yasheng International Trading Co., Ltd. (also known as Gansu Yasheng International Trade Co., Ltd.; and Yasheng International Trade; and formerly known as Gansu Yasheng International Trade Group Co., Ltd.)

• Hangzhou Union Biotechnology Co., Ltd. (also known as Hangzhou Youer Biotechnology Co., Ltd.; Youer Biotech; and Union Biotech)

• Hebei Suguo International Trade Co., Ltd. (also known as Suguo International)

• Hebei Tomato Industry Co., Ltd. (also known as Hebei Temeite Industrial Group Co., Ltd.; and formerly known as Hebei Temeite International Trade Co., Ltd.)

• Hunan Nanmo Biotechnology Co., Ltd. (also known as Hunan Nanmomo Technology Co., Ltd.)

• Inner Mongolia Qileyuan Food Co., Ltd.

• Inner Mongolia Xuanda Food Co., Ltd. (also known as Xuanda Food; and formerly known as Wuyuan County Xuanda Cereals, Oils and Foods Co., Ltd.)

• Jinan Haihong International Trade Co., Ltd. (formerly known as Jinan Haifang Trading Co., Ltd.)

• Jining Pengjie Trading Co., Ltd.

• Junan Jinsheng Import & Export Co., Ltd. (also known as Junan County Jinsheng Import and Export Co., Ltd.)

• Kingherbs Limited (also known as Changsha Jincao Biotechnology Co., Ltd.)

• Qingdao Vital Nutraceutical Ingredients BioScience Co., Ltd. (also known as Qingdao Weiyikang Biotechnology Co., Ltd.)

• Shanghai JUMP Machinery & Technology Co., Ltd. (also known as Shanghai Jiapai Machinery Technology Co., Ltd.; and formerly known as Shanghai Chituma Food Machinery Technology Co., Ltd.)

• Sichuan Yuan'an Pharmaceutical Co., Ltd. (also known as Sichuan Yuanan Pharmaceutical Co., Ltd.)

• Taiyuan Weishan International Economic Business Co., Ltd. (also known as Taiyuan Weishan International Trade Co., Ltd.)

• The TNN Development Limited (also known as Dehui (Dalian) International Trade Co., Ltd.)

• Tianjin Dunhe International Trade Co., Ltd. (also known as Dunhe Foods)

• Tianjin Kunyu International Co., Ltd. (also known as China Kunyu Industrial Co., Ltd.)

• Tianjin Tianwei Food Co., Ltd. (formerly known as Tianjin Sanhe Fruit and Vegetable Co., Ltd.)

• Weifang Alice Food Co., Ltd.

• Xinjiang Daqo New Energy Co., Ltd. (also known as Xinjiang Great New Energy Co., Ltd.; Xinjiang Daxin Energy Co., Ltd.; and Xinjiang Daqin Energy Co., Ltd.)

• Zhangzhou Hang Fat Import & Export Co., Ltd. (also known as Zhangzhou Hengfa Import and Export Co., Ltd.)

This update also modifies the name for a listing for one entity on the section 2(d)(2)(B)(i) list of the UFLPA:

• Xinjiang East Hope Nonferrous Metals Co., Ltd.

Western Gold Co., Ltd. is a company based in Urumqi, Xinjiang Uyghur Autonomous Region that mines, processes, and sells gold and manganese and mines and processes chromium ore and iron ore. The United States Government has reasonable cause to believe, based on specific and articulable information, that Western Gold Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Western Gold Co., Ltd. satisfy the criteria for addition to the UFLPA Entity List described in section 2(d)(2)(B)(ii).

Western Gold Hami Gold Mine Co., Ltd. is a company based in Hami City, Xinjiang Uyghur Autonomous Region that mines and processes gold ore. The United States Government has reasonable cause to believe, based on specific and articulable information, that Western Gold Hami Gold Mine Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Western Gold Hami Gold Mine Co., Ltd. satisfy the criteria for addition to the UFLPA Entity List described in section 2(d)(2)(B)(ii).

Western Gold Karamay Hatu Gold Mine Co., Ltd. is a company based in Karamay City, Xinjiang Uyghur Autonomous Region that mines and processes gold and chromium ores. The United States Government has reasonable cause to believe, based on specific and articulable information, that Western Gold Karamay Hatu Gold Mine Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Western Gold Karamay Hatu Gold Mine Co., Ltd. satisfy the criteria for addition to the UFLPA Entity List described in section 2(d)(2)(B)(ii).

Xinjiang Nonferrous Metals Industry Group Co., Ltd. is a company based in Urumqi, Xinjiang Uyghur Autonomous Region that mines, smelts, and processes raw metallic materials, including copper, lithium, beryllium, nickel, manganese, and gold. The United States Government has reasonable cause to believe, based on specific and articulable information, that Xinjiang Nonferrous Metals Industry Group Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Xinjiang Nonferrous Metals Industry Group Co., Ltd. satisfy the criteria for addition to the UFLPA Entity List described in section 2(d)(2)(B)(ii).

Xinjiang Zhonghe Co., Ltd., (also known as Xinjiang Joinworld Co., Ltd.), is a company located in the Xinjiang Uyghur Autonomous Region that primarily focuses on the research, development, production, and sales of electronic materials and aluminum and alloy products including high-purity aluminum, electronic aluminum foil, electrode foil, and other aluminum and alloy products. These products are primarily used in electronic equipment, wires, and cables in a wide range of downstream products, including household appliances, automobiles, and aerospace applications. The United States Government has reasonable cause to believe, based on specific and articulable information, that Xinjiang Zhonghe Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Xinjiang Zhonghe Co., Ltd. satisfy the criteria for addition to the UFLPA Entity List described in Section 2(d)(2)(B)(ii).

Anhui Yaozhiyuan Biotechnology Development Co., Ltd. (also known as Anhui Yaozhiyuan Chinese Herbal Medicine Co., Ltd.; Anhui Yaozhiyuan Chinese Medicinal Materials Co., Ltd.; and Anhui Yaozhiyuan Biological Technology Development Co., Ltd.) is a company based in Anhui Province, China, that manufactures and sells Chinese medicine, herbal tea, spices, herbs, and powders. The United States Government has reasonable cause to believe, based on specific and articulable information, that Anhui Yaozhiyuan Biotechnology Development Co., Ltd. sources material from the Xinjiang Uyghur Autonomous Region. The FLETF therefore determined that the activities of Anhui Yaozhiyuan Biotechnology Development Co., Ltd. satisfy the criteria for addition to the UFLPA Entity List described in section 2(d)(2)(B)(v).

Annan Canned Food Co., Ltd. (also known as Nanling County Annan Canned Food Co., Ltd.) is a company based in Anhui Province, China, that produces and sells tomato sauce, ketchup, and tomato paste. The United States Government has reasonable cause to believe, based on specific and articulable information, that Annan Canned Food Co., Ltd. sources material from the Xinjiang Uyghur Autonomous Region. The FLETF therefore determined that the activities of Annan Canned Food Co., Ltd. satisfy the criteria for addition to the UFLPA Entity List described in section 2(d)(2)(B)(v).

Dalian Sunspeed Foods Co., Ltd. (also known as Dalian Shengchi International Trade Co., Ltd.) is a company based in Liaoning Province, China, that collects raw walnuts from farms and processes them for export. The United States Government has reasonable cause to believe, based on specific and articulable information, that Dalian Sunspeed Foods Co., Ltd. sources material from the Xinjiang Uyghur Autonomous Region. The FLETF therefore determined that the activities of Dalian Sunspeed Foods Co., Ltd. satisfy the criteria for addition to the UFLPA Entity List described in section 2(d)(2)(B)(v).

Gansu Yasheng International Trading Co., Ltd. (also known as Gansu Yasheng International Trade Co., Ltd.; and Yasheng International Trade; and formerly known as Gansu Yasheng International Trade Group Co., Ltd.) is a company based in Gansu Province, China, that processes and sells walnuts. The United States Government has reasonable cause to believe, based on specific and articulable information, that Gansu Yasheng International Trading Co., Ltd. sources material from the Xinjiang Uyghur Autonomous Region. The FLETF therefore determined that the activities of Gansu Yasheng International Trading Co., Ltd. satisfy the criteria for addition to the UFLPA Entity List described in section 2(d)(2)(B)(v).

Hangzhou Union Biotechnology Co., Ltd. (also known as Hangzhou Youer Biotechnology Co., Ltd.; Youer Biotech; and Union Biotech) is a company based in Zhejiang Province, China that produces and sells food additives and ingredients. The United States Government has reasonable cause to believe, based on specific and articulable information, that Hangzhou Union Biotechnology Co., Ltd. sources material from the Xinjiang Uyghur Autonomous Region. The FLETF therefore determined that the activities of Hangzhou Union Biotechnology Co., Ltd. satisfy the criteria for addition to the UFLPA Entity List described in section 2(d)(2)(B)(v).

Hebei Suguo International Trade Co., Ltd. (also known as Suguo International) is a company based in Hebei Province, China, that processes and exports walnuts. The United States Government has reasonable cause to believe, based on specific and articulable information, that Hebei Suguo International Trade Co., Ltd. sources material from the Xinjiang Uyghur Autonomous Region. The FLETF therefore determined that the activities of Hebei Suguo International Trade Co., Ltd. satisfy the criteria for addition to the UFLPA Entity List described in section 2(d)(2)(B)(v).

Hebei Tomato Industry Co., Ltd. (also known as Hebei Temeite Industrial Group Co., Ltd.; and formerly known as Hebei Temeite International Trade Co., Ltd.) is a company based in Hebei Province, China, that manufactures and exports tomato paste, tomato sauce, and ketchup. The United States Government has reasonable cause to believe, based on specific and articulable information, that Hebei Tomato Industry Co., Ltd. sources material from the Xinjiang Uyghur Autonomous Region. The FLETF therefore determined that the activities of Hebei Tomato Industry Co., Ltd. satisfy the criteria for addition to the UFLPA Entity List described in section 2(d)(2)(B)(v).

Hunan Nanmo Biotechnology Co., Ltd. (also known as Hunan Nanmomo Technology Co., Ltd.) is a company based in Hunan Province, China, that produces and sells natural medicine. The United States Government has reasonable cause to believe, based on specific and articulable information, that Hunan Nanmo Biotechnology Co., Ltd. sources material from the Xinjiang Uyghur Autonomous Region. The FLETF therefore determined that the activities of Hunan Nanmo Biotechnology Co., Ltd. satisfy the criteria for addition to the UFLPA Entity List described in section 2(d)(2)(B)(v).

Inner Mongolia Qileyuan Food Co., Ltd. is a company based in Inner Mongolia Autonomous Region, China, that specializes in the research, development, and production of various seeds and kernels and packages of nuts and fruits. The United States Government has reasonable cause to believe, based on specific and articulable information, that Inner Mongolia Qileyuan Food Co., Ltd. sources material from the Xinjiang Uyghur Autonomous Region. The FLETF therefore determined that the activities of Inner Mongolia Qileyuan Food Co., Ltd. satisfy the criteria for addition to the UFLPA Entity List described in section 2(d)(2)(B)(v).

Inner Mongolia Xuanda Food Co., Ltd. (also known as Xuanda Food; and formerly known as Wuyuan County Xuanda Cereals, Oils and Foods Co., Ltd.) is a company based in Inner Mongolia Autonomous Region, China, that produces various seeds and kernels. The United States Government has reasonable cause to believe, based on specific and articulable information, that Inner Mongolia Xuanda Food Co., Ltd. sources material from the Xinjiang Uyghur Autonomous Region. The FLETF therefore determined that the activities of Inner Mongolia Xuanda Food Co., Ltd. satisfy the criteria for addition to the UFLPA Entity List described in section 2(d)(2)(B)(v).

Jinan Haihong International Trade Co., Ltd. (formerly known as Jinan Haifang Trading Co., Ltd.) is a company based in Shandong Province, China, that exports vegetables and fruits. The United States Government has reasonable cause to believe, based on specific and articulable information, that Jinan Haihong International Trade Co., Ltd. sources material from the Xinjiang Uyghur Autonomous Region. The FLETF therefore determined that the activities of Jinan Haihong International Trade Co., Ltd. satisfy the criteria for addition to the UFLPA Entity List described in section 2(d)(2)(B)(v).

Jining Pengjie Trading Co., Ltd. is a company based in Shandong Province, China, that produces and exports agricultural products including garlic, ginger, and other fruit and vegetable products. The United States Government has reasonable cause to believe, based on specific and articulable information, that Jining Pengjie Trading Co., Ltd. sources material from the Xinjiang Uyghur Autonomous Region. The FLETF therefore determined that the activities of Jining Pengjie Trading Co., Ltd. satisfy the criteria for addition to the UFLPA Entity List described in section 2(d)(2)(B)(v).

Junan Jinsheng Import & Export Co., Ltd. (also known as Junan County Jinsheng Import and Export Co., Ltd.) is a company based in Shandong Province, China, that produces, processes, sells, and exports agricultural products including peanuts, kidney beans, walnuts kernels, and other products. The United States Government has reasonable cause to believe, based on specific and articulable information, that Junan Jinsheng Import & Export Co., Ltd. sources material from the Xinjiang Uyghur Autonomous Region. The FLETF therefore determined that the activities of Junan Jinsheng Import & Export Co., Ltd. satisfy the criteria for addition to the UFLPA Entity List described in section 2(d)(2)(B)(v).

Kingherbs Limited (also known as Changsha Jincao Biotechnology Co., Ltd.) is a company based in Hunan Province, China, that produces botanical herbal ingredients and trades vitamins and minerals. The United States Government has reasonable cause to believe, based on specific and articulable information, that Kingherbs Limited sources material from the Xinjiang Uyghur Autonomous Region. The FLETF therefore determined that the activities of Kingherbs Limited satisfy the criteria for addition to the UFLPA Entity List described in section 2(d)(2)(B)(v).

Qingdao Vital Nutraceutical Ingredients BioScience Co., Ltd. (also known as Qingdao Weiyikang Biotechnology Co., Ltd.) is a company based in Shandong Province, China, that produces natural plant extracts, pharmaceutical ingredients, nutritional supplements, and food and beverage products. The United States Government has reasonable cause to believe, based on specific and articulable information, that Qingdao Vital Nutraceutical Ingredients BioScience Co., Ltd. sources material from the Xinjiang Uyghur Autonomous Region. The FLETF therefore determined that the activities of Qingdao Vital Nutraceutical Ingredients BioScience Co., Ltd. satisfy the criteria for addition to the UFLPA Entity List described in section 2(d)(2)(B)(v).

Shanghai JUMP Machinery & Technology Co., Ltd. (also known as Shanghai Jiapai Machinery Technology Co., Ltd.; and formerly known as Shanghai Chituma Food Machinery Technology Co., Ltd.) is a company based in Shanghai Province, China that processes fruits and vegetables. The United States Government has reasonable cause to believe, based on specific and articulable information, that Shanghai JUMP Machinery & Technology Co., Ltd. sources material from the Xinjiang Uyghur Autonomous Region. The FLETF therefore determined that the activities of Shanghai JUMP Machinery & Technology Co., Ltd. satisfy the criteria for addition to the UFLPA Entity List described in section 2(d)(2)(B)(v).

Sichuan Yuan'an Pharmaceutical Co., Ltd. (also known as Sichuan Yuanan Pharmaceutical Co., Ltd.) is a company based in Sichuan Province, China, that plants and acquires Chinese medicinal materials and produces Chinese medicine and tea. The United States Government has reasonable cause to believe, based on specific and articulable information, that Sichuan Yuan'an Pharmaceutical Co., Ltd. sources material from the Xinjiang Uyghur Autonomous Region. The FLETF therefore determined that the activities of Sichuan Yuan'an Pharmaceutical Co., Ltd. satisfy the criteria for addition to the UFLPA Entity List described in section 2(d)(2)(B)(v).

Taiyuan Weishan International Economic Business Co., Ltd. (also known as Taiyuan Weishan International Trade Co., Ltd.) is a company based in Shanxi Province, China, that manufactures and exports walnuts, raisins, red dates, mango, and tomato. The United States Government has reasonable cause to believe, based on specific and articulable information, that Taiyuan Weishan International Economic Business Co., Ltd. sources material from the Xinjiang Uyghur Autonomous Region. The FLETF therefore determined that the activities of Taiyuan Weishan International Economic Business Co., Ltd. satisfy the criteria for addition to the UFLPA Entity List described in section 2(d)(2)(B)(v).

The TNN Development Limited (also known as Dehui (Dalian) International Trade Co., Ltd.) is a company based in Liaoning Province, China, that produces chemical, outdoor, and beverage products, including food additives. The United States Government has reasonable cause to believe, based on specific and articulable information, that The TNN Development Limited sources material from the Xinjiang Uyghur Autonomous Region. The FLETF therefore determined that the activities of The TNN Development Limited satisfy the criteria for addition to the UFLPA Entity List described in section 2(d)(2)(B)(v).

Tianjin Dunhe International Trade Co., Ltd. (also known as Dunhe Foods) is a company based in Tianjin, China, that manufactures and exports tomato paste. The United States Government has reasonable cause to believe, based on specific and articulable information, that Tianjin Dunhe International Trade Co., Ltd. sources material from the Xinjiang Uyghur Autonomous Region. The FLETF therefore determined that the activities of Tianjin Dunhe International Trade Co., Ltd. satisfy the criteria for addition to the UFLPA Entity List described in section 2(d)(2)(B)(v).

Tianjin Kunyu International Co., Ltd. (also known as China Kunyu Industrial Co., Ltd.) is a company based in Tianjin, China, that manufactures and supplies agricultural products, including tomato paste. The United States Government has reasonable cause to believe, based on specific and articulable information, that Tianjin Kunyu International Co., Ltd. sources material from the Xinjiang Uyghur Autonomous Region. The FLETF therefore determined that the activities of Tianjin Kunyu International Co., Ltd. satisfy the criteria for addition to the UFLPA Entity List described in section 2(d)(2)(B)(v).

Tianjin Tianwei Food Co., Ltd. (formerly known as Tianjin Sanhe Fruit and Vegetable Co., Ltd.) is a company located in Tianjin, China that processes fruit, vegetable, and agricultural products, especially tomato products, and integrates raw material planting, picking, production, processing, trade, and scientific research and development. The United States Government has reasonable cause to believe, based on specific and articulable information, that Tianjin Tianwei Food Co., Ltd. sources material from the Xinjiang Uyghur Autonomous Region. The FLETF therefore determined that the activities of Tianjin Tianwei Food Co., Ltd. satisfy the criteria for addition to the UFLPA Entity List described in Section 2(d)(2(B)(v).

Weifang Alice Food Co., Ltd. is a company based in Shandong Province, China, that processes dried fruits and walnuts. The United States Government has reasonable cause to believe, based on specific and articulable information, that Weifang Alice Food Co., Ltd. sources material from the Xinjiang Uyghur Autonomous Region. The FLETF therefore determined that the activities of Weifang Alice Food Co., Ltd. satisfy the criteria for addition to the UFLPA Entity List described in section 2(d)(2)(B)(v).

Xinjiang Daqo New Energy Co., Ltd., (also known as Xinjiang Great New Energy Co., Ltd.; Xinjiang Daxin Energy Co., Ltd.; and Xinjiang Daqin Energy Co., Ltd.) is a company located in Shihezi, Xinjiang Uyghur Autonomous Region that produces high purity polysilicon materials. This company was first listed on the UFLPA Entity List, pursuant to Section 2(d)(2)(B)(i), in June 2022. The United States Government has reasonable cause to believe, based on specific and articulable information, that Xinjiang Daqo New Energy Co., Ltd. sources material from the Xinjiang Uyghur Autonomous Region. The FLETF therefore determined that the activities of Xinjiang Daqo New Energy Co., Ltd. satisfy the criteria for addition to the UFLPA Entity List described in Section 2(d)(2(B)(v).

Zhangzhou Hang Fat Import & Export Co., Ltd. (also known as Zhangzhou Hengfa Import and Export Co., Ltd.) is a company based in Fujian Province, China, that develops and exports tomato products. The United States Government has reasonable cause to believe, based on specific and articulable information, that Zhangzhou Hang Fat Import & Export Co., Ltd. sources material from the Xinjiang Uyghur Autonomous Region. The FLETF therefore determined that the activities of Zhangzhou Hang Fat Import & Export Co., Ltd. satisfy the criteria for addition to the UFLPA Entity List described in section 2(d)(2)(B)(v).

Xinjiang East Hope Nonferrous Metals Co., Ltd., is a company located in the Xinjiang Uyghur Autonomous Region that manufactures nonferrous metals, nonferrous metal alloys products, and metal materials. The company also participates in power generation, transmission, and supply activities. When it was first added to the UFLPA Entity List in June 2022, the FLETF included one known alias, “Xinjiang Nonferrous.” Information reviewed by the FLETF indicates that “Xinjiang Nonferrous” is not an alias of Xinjiang East Hope Nonferrous Metals Co., Ltd. Therefore, the FLETF has determined to make a technical correction to change the name of the entity “Xinjiang East Hope Nonferrous Metals Co., Ltd.” as it appears on Section 2(d)(2)(B)(i) to remove the alias “Xinjiang Nonferrous.”

No removals are being made to the UFLPA Entity List at this time.

The UFLPA Entity List is a consolidated register of the four lists that are required to be developed and maintained pursuant to section 2(d)(2)(B) of the UFLPA. One hundred and seven entities that meet the criteria set forth in the four required lists (see sections 2(d)(2)(B)(i), (ii), (iv), and (v) of the UFLPA) are specified on the UFLPA Entity List.

UFLPA Entity List November 25, 2024

UFLPA Section 2(d)(2)(B)(i) A List of Entities in Xinjiang That Mine, Produce, or Manufacture Wholly or in Part Any Goods, Wares, Articles, and Merchandise With Forced Labor

Baoding LYSZD Trade and Business Co., Ltd.

Hetian Haolin Hair Accessories Co. Ltd. (and two aliases: Hotan Haolin Hair Accessories; and Hollin Hair Accessories)

Hetian Taida Apparel Co., Ltd (and one alias: Hetian TEDA Garment)

Hoshine Silicon Industry (Shanshan) Co., Ltd (including one alias: Hesheng Silicon Industry (Shanshan) Co.) and subsidiaries

Xinjiang Daqo New Energy, Co. Ltd (including three aliases: Xinjiang Great New Energy Co., Ltd.; Xinjiang Daxin Energy Co., Ltd.; and Xinjiang Daqin Energy Co., Ltd.)

Xinjiang East Hope Nonferrous Metals Co., Ltd.

Xinjiang GCL New Energy Material Technology, Co. Ltd (including one alias: Xinjiang GCL New Energy Materials Technology Co.)

Xinjiang Junggar Cotton and Linen Co., Ltd.

Xinjiang Production and Construction Corps (including three aliases: XPCC; Xinjiang Corps; and Bingtuan) and its subordinate and affiliated entities

UFLPA Section 2(d)(2)(B)(ii) A List of Entities Working With the Government of Xinjiang To Recruit, Transport, Transfer, Harbor or Receive Forced Labor or Uyghurs, Kazakhs, Kyrgyz, or Members of Other Persecuted Groups Out of Xinjiang

Aksu Huafu Textiles Co. (including two aliases: Akesu Huafu and Aksu Huafu Dyed Melange Yarn)

Anhui Xinya New Materials Co., Ltd. (formerly known as Chaohu Youngor Color Spinning Technology Co., Ltd.; and Chaohu Xinya Color Spinning Technology Co., Ltd.)

Baowu Group Xinjiang Bayi Iron and Steel Co., Ltd. (also known as Xinjiang Bayi Iron and Steel Co. Ltd.; Baosteel Group Xinjiang Bayi Iron and Steel Co., Ltd.; and Bayi Iron and Steel)

Camel Group Co., Ltd.

Changhong Meiling Co., Ltd. (formerly known as Hefei Meiling Co., Ltd.; and Hefei Meiling Group Holdings Limited)

COFCO Sugar Holdings Co., Ltd.

Dongguan Oasis Shoes Co., Ltd. (also known as Dongguan Oasis Shoe Industry Co. Ltd.; Dongguan Luzhou Shoes Co., Ltd.; and Dongguan Lvzhou Shoes Co., Ltd.)

Geehy Semiconductor Co., Ltd.

Hefei Bitland Information Technology Co., Ltd. (including three aliases: Anhui Hefei Baolongda Information Technology; Hefei Baolongda Information Technology Co., Ltd.; and Hefei Bitland Optoelectronic Technology Co., Ltd.)

Kashgar Construction Engineering (Group) Co., Ltd.

KTK Group (including three aliases: Jiangsu Jinchuang Group; Jiangsu Jinchuang Holding Group; and KTK Holding)

Lop County Hair Product Industrial Park

Lop County Meixin Hair Products Co., Ltd.

Nanjing Synergy Textiles Co., Ltd. (including two aliases: Nanjing Xinyi Cotton Textile Printing and Dyeing; and Nanjing Xinyi Cotton Textile).

Ninestar Corporation

No. 4 Vocation Skills Education Training Center (VSETC)

Shandong Meijia Group Co., Ltd. (also known as Rizhao Meijia Group)

Sichuan Jingweida Technology Group Co., Ltd. (also known as Sichuan Mianyang Jingweida Technology Co., Ltd. and JWD Technology; and formerly known as Mianyang High-tech Zone Jingweida Technology Co., Ltd.)

Tanyuan Technology Co. Ltd. (including five aliases: Carbon Yuan Technology; Changzhou Carbon Yuan Technology Development; Carbon Element Technology; Jiangsu Carbon Element Technology; and Tanyuan Technology Development).

Western Gold Co., Ltd.

Western Gold Hami Gold Mine Co., Ltd.

Western Gold Karamay Hatu Gold Mine Co., Ltd.

Xinjiang Habahe Ashele Copper Co., Ltd. (also known as Ashele Copper)

Xinjiang Nonferrous Metals Industry Group Co., Ltd.

Xinjiang Production and Construction Corps (XPCC) and its subordinate and affiliated entities

Xinjiang Shenhuo Coal and Electricity Co., Ltd.

Xinjiang Tengxiang Magnesium Products Co., Ltd.

Xinjiang Tianmian Foundation Textile Co., Ltd.

Xinjiang Tianshan Wool Textile Co. Ltd.

Xinjiang Zhonghe Co., Ltd. (also known as Xinjiang Joinworld Co., Ltd.)

Xinjiang Zhongtai Chemical Co. Ltd.

Xinjiang Zhongtai Group Co. Ltd

Zhuhai Apex Microelectronics Co., Ltd.

Zhuhai G&G Digital Technology Co., Ltd.

Zhuhai Ninestar Information Technology Co. Ltd.

Zhuhai Ninestar Management Co., Ltd.

Zhuhai Pantum Electronics Co. Ltd.

Zhuhai Pu-Tech Industrial Co., Ltd.

Zhuhai Seine Printing Technology Co., Ltd.

UFLPA Section 2(d)(2)(B)(iv) A List of Entities That Exported Products Described in Clause (iii) From the People's Republic of China Into the United States

Entities identified in sections (i) and (ii) above may serve as both manufacturers and exporters. The FLETF has not identified additional exporters at this time but will continue to investigate and gather information about additional entities that meet the specified criteria.

UFLPA Section 2(d)(2)(B)(v) a List of Facilities and Entities, Including the Xinjiang Production and Construction Corps, That Source Material From Xinjiang or From Persons Working With the Government of Xinjiang or the Xinjiang Production and Construction Corps for Purposes of the “Poverty Alleviation” Program or the “Pairing-Assistance” Program or Any Other Government Labor Scheme That Uses Forced Labor

Anhui Yaozhiyuan Biotechnology Development Co., Ltd. (also known as Anhui Yaozhiyuan Chinese Herbal Medicine Co., Ltd.; Anhui Yaozhiyuan Chinese Medicinal Materials Co., Ltd.; and Anhui Yaozhiyuan Biological Technology Development Co., Ltd.)

Annan Canned Food Co., Ltd. (also known as Nanling County Annan Canned Food Co., Ltd.)

Baoding LYSZD Trade and Business Co., Ltd.

Binzhou Chinatex Yintai Industrial Co., Ltd.

Century Sunshine Group Holdings, Ltd.

Changji Esquel Textile Co., Ltd. (also known as Changji Yida Textile Co., Ltd.)

Changzhou Guanghui Food Ingredients Co., Ltd. (also known as GSweet; Changzhou Guanghui Food Additive Co., Ltd.; and Changzhou Guanghui Food Technology Co., Ltd.; and formerly known as Changzhou Guanghui Biotechnology Co., Ltd.)

Chenguang Biotech Group Co., Ltd.

Chenguang Biotechnology Group Yanqi Co. Ltd.

China Cotton Group Henan Logistics Park Co., Ltd., Xinye Branch

China Cotton Group Nangong Hongtai Cotton Co., Ltd.

China Cotton Group Shandong Logistics Park Co., Ltd.

China Cotton Group Xinjiang Cotton Co.

Dalian Sunspeed Foods Co., Ltd. (also known as Dalian Shengchi International Trade Co., Ltd.)

Esquel Group (also known as Esquel China Holdings Limited)

Fujian Minlong Warehousing Co., Ltd.

Gansu Yasheng International Trading Co., Ltd. (also known as Gansu Yasheng International Trade Co., Ltd.; and Yasheng International Trade; and formerly known as Gansu Yasheng International Trade Group Co., Ltd.)

Guangdong Esquel Textile Co., Ltd.

Hangzhou Union Biotechnology Co., Ltd. (also known as Hangzhou Youer Biotechnology Co., Ltd.; Youer Biotech; and Union Biotech)

Hebei Suguo International Trade Co., Ltd. (also known as Suguo International)

Hebei Tomato Industry Co., Ltd. (also known as Hebei Temeite Industrial Group Co., Ltd.; and formerly known as Hebei Temeite International Trade Co., Ltd.)

Hefei Bitland Information Technology Co. Ltd.

Henan Yumian Group Industrial Co., Ltd.

Henan Yumian Logistics Co., Ltd. (formerly known as 841 Cotton Transfer Warehouse)

Hengshui Cotton and Linen Corporation Reserve Library

Hetian Haolin Hair Accessories Co. Ltd.

Hetian Taida Apparel Co., Ltd.

Heze Cotton and Linen Co., Ltd.

Heze Cotton and Linen Economic and Trade Development Corporation (also known as Heze Cotton and Linen Trading Development General Company)

Hoshine Silicon Industry (Shanshan) Co., Ltd., and Subsidiaries

Huangmei Xiaochi Yinfeng Cotton (formerly known as Hubei Provincial Cotton Corporation's Xiaochi Transfer Reserve)

Hubei Jingtian Cotton Industry Group Co., Ltd.

Hubei Qirun Investment Development Co., Ltd.

Hubei Yinfeng Cotton Co., Ltd.

Hubei Yinfeng Warehousing and Logistics Co., Ltd.

Hunan Nanmo Biotechnology Co., Ltd. (also known as Hunan Nanmomo Technology Co., Ltd.)

Inner Mongolia Qileyuan Food Co., Ltd.

Inner Mongolia Xuanda Food Co., Ltd. (also known as Xuanda Food; and formerly known as Wuyuan County Xuanda Cereals, Oils and Foods Co., Ltd.)

Jiangsu Yinhai Nongjiale Storage Co., Ltd.

Jiangsu Yinlong Warehousing and Logistics Co., Ltd.

Jiangyin Lianyun Co. Ltd. (also known as Jiangyin Intermodal Transport Co. and Jiangyin United Transport Co.)

Jiangyin Xiefeng Cotton and Linen Co., Ltd.

Jinan Haihong International Trade Co., Ltd. (formerly known as Jinan Haifang Trading Co., Ltd.)

Jining Pengjie Trading Co., Ltd.

Junan Jinsheng Import & Export Co., Ltd. (also known as Junan County Jinsheng Import and Export Co., Ltd.)

Juye Cotton and Linen Station of the Heze Cotton and Linen Corporation

Kingherbs Limited (also known as Changsha Jincao Biotechnology Co., Ltd.)

Lanxi Huachu Logistics Co., Ltd.

Linxi County Fangpei Cotton Buying and Selling Co., Ltd.

Lop County Hair Product Industrial Park

Lop County Meixin Hair Products Co., Ltd.

Nanyang Hongmian Logistics Co., Ltd. (also known as Nanyang Red Cotton Logistics Co., Ltd.)

No. 4 Vocation Skills Education Training Center (VSETC)

Qingdao Vital Nutraceutical Ingredients BioScience Co., Ltd. (also known as Qingdao Weiyikang Biotechnology Co., Ltd.)

Rare Earth Magnesium Technology Group Holdings, Ltd.

Shanghai JUMP Machinery & Technology Co., Ltd. (also known as Shanghai Jiapai Machinery Technology Co., Ltd.; and formerly known as Shanghai Chituma Food Machinery Technology Co., Ltd.)

Sichuan Yuan'an Pharmaceutical Co., Ltd. (also known as Sichuan Yuanan Pharmaceutical Co., Ltd.)

Taiyuan Weishan International Economic Business Co., Ltd. (also known as Taiyuan Weishan International Trade Co., Ltd.)

The TNN Development Limited (also known as Dehui (Dalian) International Trade Co., Ltd.)

Tianjin Dunhe International Trade Co., Ltd. (also known as Dunhe Foods)

Tianjin Kunyu International Co., Ltd. (also known as China Kunyu Industrial Co., Ltd.)

Tianjin Tianwei Food Co., Ltd. (formerly known as Tianjin Sanhe Fruit and Vegetable Co., Ltd.)

Turpan Esquel Textile Co., Ltd.

Weifang Alice Food Co., Ltd.

Wugang Zhongchang Logistics Co., Ltd.

Xinjiang Daqo New Energy Co., Ltd. (also known as Xinjiang Great New Energy Co., Ltd.; Xinjiang Daxin Energy Co., Ltd.; and Xinjiang Daqin Energy Co., Ltd.)

Xinjiang Junggar Cotton and Linen Co., Ltd.

Xinjiang Production and Construction Corps (XPCC) and its subordinate and affiliated entities

Xinjiang Tengxiang Magnesium Products Co., Ltd.

Xinjiang Yinlong Agricultural International Cooperation Co.

Yili Zhuowan Garment Manufacturing Co., Ltd.

Zhangzhou Hang Fat Import & Export Co., Ltd. (also known as Zhangzhou Hengfa Import and Export Co., Ltd.)

[FR Doc. 2024-27337 Filed 11-22-24; 8:45 am]

BILLING CODE 9110-9M-P